ENVIRONMENTAL PROTECTION AGENCY

[FRL-9398-3]

Agency Information Collection Activities; Proposed Renewal of Several Currently Approved Collections; Comment Request

AGENCY: Environmental Protection Agency (EPA).

ACTION: Notice.

SUMMARY: In compliance with the Paperwork Reduction Act (PRA), this document announces that EPA is planning to submit requests to renew several currently approved Information Collection Request (ICR) to the Office of Management and Budget (OMB). The ICRs are identified in this document by their corresponding titles, EPA ICR numbers, OMB Control numbers, and related docket identification (ID) numbers. Before submitting these ICRs to OMB for review and approval, EPA is soliciting comments on specific aspects of the information collection activities that are summarized in this document. The ICRs and accompanying material are available for public review and comment in the relevant dockets identified in this document for the ICR.

DATES: Comments must be received on or before November 25, 2013.

ADDRESSES: Submit your comments, identified by the docket identification (ID) number for the corresponding ICR as identified in this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html. Additional instructions on commenting or visiting the docket, along with more information about dockets generally, is available at http://www.epa.gov/dockets.

FOR FURTHER INFORMATION CONTACT: Scott Drewes, Field and External Affairs Division (7506P), Office of Pesticide Programs, Environmental Protection Agency, 1200 Pennsylvania Ave. NW., Washington, DC 20460-0001; telephone number: (703) 347-0107; fax number: (703) 305-5884; email address: drewes.scott@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What should I consider when I prepare my comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Submit your comments by the deadline identified under DATES.

6. Identify the docket ID number assigned to the ICR action in the subject line on the first page of your response. You may also provide the ICR title and related EPA and OMB numbers.

III. What do I need to know about PRA?

An Agency may not conduct or sponsor, and a person is not required to respond to a collection of information subject to PRA approval unless it displays a currently valid OMB control number. The OMB control numbers for the EPA regulations in title 40 of the Code of Federal Regulations (CFR), after appearing in the preamble of the final rule, are further displayed either by publication in the Federal Register or by other appropriate means, such as on the related collection instruments or form, if applicable. The display of OMB control numbers for certain EPA regulations is consolidated in a list at 40 CFR 9.1.

As used in the PRA context, burden is defined in 5 CFR 1320.3(b).

IV. Which ICRs are being renewed?

EPA is planning to submit a number of currently approved ICRs to OMB for review and approval under PRA. In addition to specifically identifying the ICRs by title and corresponding ICR, OMB and docket ID numbers, this unit provides a brief summary of the information collection activity and the Agency's estimated burden. The supporting statement for each ICR, a copy of which is available in the corresponding docket, provides a more detailed explanation.

A. Docket ID Number EPA-HQ-OPP-2013-0493

Title: Compliance Requirement for Child Resistant Packaging.

ICR number: 0616.11.

OMB control number: 2070-0052.

ICR status: The approval for this ICR is scheduled to expire on May 31, 2014.

Abstract: This information collection program is designed to provide EPA with assurances that the packaging of pesticide products sold and distributed to the general public in the United States meets standards set forth by the Agency pursuant to the Federal Insecticide, Fungicide, and Rodenticide Act (FIFRA). Registrants must certify to the Agency that the packaging or device meets these standards. Section 25(c)(3) of FIFRA authorizes EPA to establish standards for packaging of pesticide products and pesticidal devices to protect children and adults from serious illness or injury resulting from accidental ingestion or contact. The law requires that these standards are designed to be consistent with those under the Poison Prevention Packaging Act, administered by the Consumer Product Safety Commission (CPSC). Unless a pesticide product qualifies for an exemption, if the product meets certain criteria regarding toxicity and use, it must be sold and distributed in child-resistant packaging.

Burden statement: The annual public reporting and recordkeeping burden for this collection of information is estimated to average 7.9 hours per response. The ICR, a copy of which is available in the docket, provides a detailed explanation of this estimate, which is only briefly summarized here:

Respondents/Affected entities: Entities potentially affected by this ICR include large and small entities engaged in manufacturing pesticide chemicals, wholesale merchandizing of pesticide products, or pest management activities. The North American Industrial Classification System (NAICS) codes for respondents under this ICR include 325320 (Pesticide and other Agricultural Chemical Manufacturing), 424690 (Other Chemical and Allied Products Merchant Wholesalers), and 561710 (Exterminating and Pest Control Services).

Estimated total number of potential respondents: 1733.

Frequency of response: On occasion.

Estimated total average number of responses for each respondent: 1.

Estimated total annual burden hours: 5,401 hours.

Estimated total annual costs: $300,715. There are no non-burden hour paperwork costs, e.g., investment or maintenance and operational costs, included in this information collection.

Changes in the estimates from the last approval: The renewal of this ICR will result in an overall increase of 508 hours in the total estimated respondent burden identified in the currently approved ICR. This increase reflects EPA's updating of burden estimates for this collection based upon historical information on the number and type of child-resistant packaging (CRP) certifications submitted to the agency. Based upon revised estimates, the number of CRP submissions is expected to decrease from 1,165 to 685. However, a change in the distribution of response types from less-burdensome to more-burdensome responses resulted in an increase in the average burden hours per response from 4.2 hours to 7.9 hours per submission. This change is an adjustment.

B. Docket ID Number EPA-HQ-OPP-2013-0494

Title: Plant-Incorporated Protectants; CBI Substantiation and Adverse Effects Reporting.

ICR number: 1693.08.

OMB control number: 2070-0142.

ICR status: The approval for this ICR is scheduled to expire on June 30, 2014.

Abstract: This ICR addresses the two information collection requirements described in regulations pertaining to pesticidal substances that are produced by plants (plant-incorporated protectants) and which are codified in 40 CFR part 174. A plant-incorporated protectant is defined as “the pesticidal substance that is intended to be produced and used in a living plant and the genetic material necessary for the production of such a substance.” Many, but not all, plant-incorporated protectants are exempt from registration requirements under FIFRA. Registrants sometimes include in a submission to EPA for registration of plant-incorporated protectants information that they claim to be CBI. CBI is protected by FIFRA and generally cannot be released to the public. Under 40 CFR part 174, whenever a registrant claims that information submitted to EPA in support of a registration application for plant-incorporated protectants contains CBI, the registrant must substantiate such claims when they are made, rather than provide it later upon request by EPA. In addition, manufacturers of plant-incorporated protectants that are otherwise exempted from the requirements of registration must report adverse effects of the plant-incorporated protectant to the Agency. Such reporting will allow the Agency to determine whether further action is needed to prevent unreasonable adverse effects to the environment.

Burden statement: The annual public reporting and recordkeeping burden for this collection of information is estimated to average 21.5 hours per CBI substantiation and 7 hours per adverse effects reporting response. The ICR, a copy of which is available in the docket, provides a detailed explanation of this estimate, which is only briefly summarized here:

Respondents/Affected entities: Entities potentially affected by this ICR include producers and importers of plant-incorporated protectants. The NAICS codes for respondents under this ICR include: 325320 (Pesticide and other Agricultural Chemical Manufacturing), 325414 (Biological Products (except Diagnostic) Manufacturing), 422910 (Farm Supplies Wholesalers), 422930 (Flower, Nursery Stock, and Florist's Suppliers), 541710 (Research and Development in the Physical, Engineering, and Life Sciences), and 611310 (Colleges, Universities, and Professional Schools).

Estimated total number of potential respondents: 20.

Frequency of response: On occasion.

Estimated total average number of responses for each respondent: 1.

Estimated total annual burden hours: 432 hours.

Estimated total annual costs: $31,371. There are no non-burden hour paperwork costs, e.g., investment or maintenance and operational costs, included in this information collection.

Changes in the estimates from the last approval: The renewal of this ICR will result in an overall increase of 43 hours, in the total estimated respondent burden identified in the currently approved ICR. This increase reflects EPA's updating of burden estimates for this collection based upon historical information on the number of CBI substantiations per year. Based upon revised estimates, the number of CBI substantiations per year has increased from 18 to 20, with a corresponding increase in the associated burden. This change is an adjustment.

C. Docket ID Number EPA-HQ-OPP-2013-0617

Title: Experimental Use Permits (EUPs) for Pesticides.

ICR number: 0276.15.

OMB control number: 2070-0040.

ICR status: The approval for this ICR is scheduled to expire on June 30, 2014.

Abstract: FIFRA requires that before a pesticide product may be distributed or sold in the United States, it must be registered by EPA. Section 5 of FIFRA authorizes EPA to issue experimental use permits (EUPs) which allow companies to temporarily ship pesticide products for experimental use for the purpose of gathering data necessary to support the application for registration of a pesticide product. In general, EUPs are issued either for a pesticide not registered with the Agency or for a new use of a registered pesticide. The EUP application must be submitted in order to obtain a permit. This information collection provides EPA with the data necessary to determine whether to issue a EUP under section 5 of FIFRA.

Burden statement: The annual public reporting and recordkeeping burden for this collection of information is estimated to average 32.8 hours, per chemical pesticide EUP response and 147 hours, per plant-incorporated protectants EUP response. The ICR, a copy of which is available in the docket, provides a detailed explanation of this estimate, which is only briefly summarized here:

Respondents/Affected entities: Entities potentially affected by this ICR include individuals or entities engaged in pesticide, fertilizer, and other agricultural chemical manufacturing. The NAICS codes for respondents under this ICR include: 325320 (Pesticide and other Agricultural Chemical Manufacturing).

Estimated total number of potential respondents: 30.

Frequency of response: On occasion.

Estimated total average number of responses for each respondent: 1.

Estimated total annual burden hours: 556 hours.

Estimated total annual costs: $33,872. There are no non-burden hour paperwork costs, e.g., investment or maintenance and operational costs, included in this information collection.

Changes in the estimates from the last approval: The renewal of this ICR will result in an overall decrease of 1,351 hours in the total estimated respondent burden identified in the currently approved ICR. This decrease reflects EPA's updating of burden estimates for this collection based upon historical information on the reduced number of EUP submissions for chemical pesticides, as well as a decrease in the number of EUP applications that are plant-incorporated protectants. This change is an adjustment.

V. What is the next step in the process for these ICRs?

EPA will consider the comments received and amend the individual ICRs as appropriate. The final ICR packages will then be submitted to OMB for review and approval pursuant to 5 CFR 1320.12. EPA will issue another Federal Register document pursuant to 5 CFR 1320.5(a)(1)(iv) to announce the submission of these ICRs to OMB and the opportunity for the public to submit additional comments for OMB consideration. If you have any questions about any of these ICRs or the approval process in general, please contact the person listed under FOR FURTHER INFORMATION CONTACT.

List of Subjects

Environmental protection, Reporting and recordkeeping requirements.

Dated: September 13, 2013.
James Jones,
Assistant Administrator, Office of Chemical Safety and Pollution Prevention.

[FR Doc. 2013-23067 Filed 9-24-13; 8:45 am]

BILLING CODE 6560-50-P